DEPARTMENT OF JUSTICE

Antitrust Division

Notice Pursuant to the National Cooperative Research and Production Act of 1993—Die Products Consortium (“DPC”)

Notice is hereby given that, on September 22, 2000, pursuant to section 6(a) of the National Cooperative Research and Production Act of 1993, 15 U.S.C. 4301 et seq. (“the Act”), Die Products Consortium (“DPC”) has filed written notifications simultaneously with the Attorney General and the Federal Trade Commission disclosing changes in its membership status. The notifications were filed for the purpose of extending the Act's provisions limiting the recovery of antitrust plaintiffs to actual damages under specified circumstances. Specifically, Honeywell, Inc., Minneapolis, MN; and Intel Corporation, Santa Clara, CA have been dropped as parties to this venture. Also, Microelectronics and Computer Technology Corporation will cease to administer the Die Products Consortium as of October 1, 2000.

No other changes have been made in either the membership or planned activity of the group research project. Membership in this group research project remains open, and Die Products Consortium intends to file additional written notification disclosing all changes in membership.

On November 15, 1999, Die Products Consortium filed its original notification pursuant to section 6(a) of the Act. The Department of Justice published a notice in the Federal Register pursuant to section 6(b) of the Act on June 26, 2000 (65 FR 39429).

The last notification was filed with the Department on March 31, 2000. A notice was published in the Federal Register pursuant to section 6(b) of the Act on June 29, 2000 (65 FR 40129).

Constance K. Robinson,
Director of Operations, Antitrust Division.

[FR Doc. 00-27534 Filed 10-25-00; 8:45 am]

BILLING CODE 4410-11-M